DEPARTMENT OF DEFENSE

Department of the Navy

Notice of Rescheduled Public Meetings and Extension of Public Comment Period for the Draft Supplemental Environmental Impact Statement/Overseas Environmental Impact Statement for Mariana Islands Training and Testing

AGENCY: Department of the Navy, DoD.

ACTION: Notice.

SUMMARY: A notice of public meetings was published in the Federal Register by the U.S. Environmental Protection Agency on January 31, 2019 for the Department of the Navy's (DoN) Draft Supplemental Environmental Impact Statement/Overseas Environmental Impact Statement (EIS/OEIS) for the Mariana Islands Training and Testing (MITT) Study Area. Due to the effects of Typhoon Wutip, Navy officials postponed public meetings supporting the Draft Supplemental EIS/OEIS planned for February 26-27, 2019.

DATES: This notice announces the dates and locations of the rescheduled public meetings in March 2019, and a 15-day extension of the public comment period from March 18, 2019, to April 2, 2019.

ADDRESSES: Public meetings will be held in an open-house format with DoN representatives available to provide information and answer questions related to the Draft Supplemental EIS/OEIS. The public may arrive at any time during meetings, as there will not be a presentation or public oral comment session. Open house public meetings will be held on the following dates and at the following locations:

1. 1:00 to 3:30 p.m. March 14, 2019, at Tinian Public Library, San Jose Village, Tinian, MP 96952.

2. 1:30 to 4:30 p.m. March 15, 2019, at Mayor's Conference Hall, Songsong Village, Rota, MP 96951.

3. 5:00 to 8:00 p.m. March 18, 2019, at Kanoa Resort Saipan, Seaside Hall, Beach Road in Susupe, Saipan, MP 96950.

4. 5:00 to 8:00 p.m. March 19, 2019, at University of Guam, Jesus & Eugenia Leon Guerrero School of Business and Public Administration Building, Anthony Leon Guerrero Multi-Purpose Room 129 and Henry Sy Atrium, Mangilao, Guam 96923.

Attendees will be able to submit comments during the open house public meetings. Comments may also be mailed to Naval Facilities Engineering Command Pacific, Attention: MITT Supplemental EIS/OEIS Project Manager, 258 Makalapa Drive, Suite 100, Pearl Harbor, HI 96860-3134, or electronically via the project website at www.MITT-EIS.com. All comments submitted during the public comment period will become part of the public record and substantive comments will be addressed in the Final Supplemental EIS/OEIS. All comments must be postmarked or received online by April 2, 2019, Chamorro Standard Time, for consideration in the Final Supplemental EIS/OEIS.

Naval Facilities Engineering Command Pacific, Attention: MITT Supplemental EIS/OEIS Project Manager, 258 Makalapa Drive, Suite 100, Pearl Harbor, HI 96860-3134.

SUPPLEMENTARY INFORMATION: The Draft Supplemental EIS/OEIS is available electronically for public viewing at www.MITT-EIS.com and at the following public libraries:

1. Robert F. Kennedy Memorial Library, University of Guam, UOG Station, Mangilao, GU 96923-1871.

2. Nieves M. Flores Memorial Library, 254 Martyr St., Hagåtña, GU 96910-5141.

3. Tinian Public Library, San Jose Village, Tinian, MP 96952-9997.

4. Antonio C. Atalig Memorial Library (Rota Public Library), Rota, MP 96951-9997.

5. Joeten-Kiyu Public Library, Beach Road and Insatto St., Saipan, MP 96950-9996.

Dated: March 1, 2019.
M.S. Werner,
Commander, Judge Advocate General's Corps, U.S. Navy, Federal Register Liaison Officer.

[FR Doc. 2019-04019 Filed 3-7-19; 8:45 am]

BILLING CODE 3810-FF-P